DEPARTMENT OF THE TREASURY

Submission for OMB Review; Comment Request

January 26, 2016.

The Department of the Treasury will submit the following information collection request to the Office of Management and Budget (OMB) for review and clearance in accordance with the Paperwork Reduction Act of 1995, Public Law 104-13, on or after the date of publication of this notice.

DATES: Comments should be received on or before February 29, 2016 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submission may be obtained by emailing PRA@treasury.gov, calling (202) 622-1295, or viewing the entire information collection request at www.reginfo.gov.

Bureau of the Fiscal Service

OMB Control Number: 1510-0056.

Type of Review: Extension of a currently approved collection.

Title: ACH Vendor/Miscellaneous Payment Enrollment Form.

Form: SF 3881.

Abstract: Form SF 3881 is used by federal agencies to gather essential payment data from vendors for processing payments through the Automated Clearinghouse (ACH) network to the vendor's financial institution.

Affected Public: Businesses or other for-profits; not-for-profit institutions.

Estimated Average Annual Burden per Response: 15 minutes.

Estimated Total Annual Burden Hours: 17,500.

Brenda Simms,
Treasury PRA Clearance Officer.

[FR Doc. 2016-01709 Filed 1-28-16; 8:45 am]

BILLING CODE 4810-AS-P